NATIONAL LABOR RELATIONS BOARD

29 CFR Part 103

RIN 3142-AA15

Jurisdiction—Nonemployee Status of University and College Students Working in Connection With Their Studies; Extension of Comment Period

AGENCY: National Labor Relations Board.

ACTION: Notice of extension of time to submit comments.

SUMMARY: The National Labor Relations Board (the Board) published a Notice of Proposed Rulemaking in the Federal Register on September 23, 2019, seeking comments from the public regarding its proposed rule concerning the Nonemployee Status of University and College Students Working in Connection with their Studies. On October 16, 2019, the date to submit comments to the Notice of Proposed Rulemaking was extended for 60 days. The date to submit comments to the Notice is now extended an additional 30 days.

DATES: Comments to the Notice of Proposed Rulemaking must be received by the Board on or before January 15, 2020. Comments replying to the comments submitted during the initial comment period must be received by the Board on or before January 29, 2020.

ADDRESSES:

Internet—Federal eRulemaking Portal. Electronic comments may be submitted through http://www.regulations.gov.

Delivery—Comments should be sent by mail or hand delivery to: Roxanne Rothschild, Executive Secretary, National Labor Relations Board, 1015 Half Street SE, Washington, DC 20570-0001. Because of security precautions, the Board continues to experience delays in U.S. mail delivery. You should take this into consideration when preparing to meet the deadline for submitting comments. The Board encourages electronic filing. It is not necessary to send comments if they have been filed electronically with regulations.gov. If you send comments, the Board recommends that you confirm receipt of your delivered comments by contacting (202) 273-1940 (this is not a toll-free number). Individuals with hearing impairments may call 1-866-315-6572 (TTY/TDD).

Only comments submitted through http://www.regulations.gov, hand delivered, or mailed will be accepted; ex parte communications received by the Board will be made part of the rulemaking record and will be treated as comments only insofar as appropriate. Comments will be available for public inspection at http://www.regulations.gov and during normal business hours (8:30 a.m. to 5 p.m. EST) at the above address.

The Board will post, as soon as practicable, all comments received on http://www.regulations.gov without making any changes to the comments, including any personal information provided. The website http://www.regulations.gov is the Federal eRulemaking portal, and all comments posted there are available and accessible to the public. The Board requests that comments include full citations or internet links to any authority relied upon. The Board cautions commenters not to include personal information such as Social Security numbers, personal addresses, telephone numbers, and email addresses in their comments, as such submitted information will become viewable by the public via the http://www.regulations.gov website. It is the commenter's responsibility to safeguard his or her information. Comments submitted through http://www.regulations.gov will not include the commenter's email address unless the commenter chooses to include that information as part of his or her comment.

FOR FURTHER INFORMATION CONTACT: Roxanne Rothschild, Executive Secretary, National Labor Relations Board, 1015 Half Street SE, Washington, DC 20570-0001, (202) 273-1940 (this is not a toll-free number), 1-866-315-6572 (TTY/TDD).

Dated: November 27, 2019.
Roxanne Rothschild,
Executive Secretary.

[FR Doc. 2019-26177 Filed 12-3-19; 8:45 am]

BILLING CODE 7545-01-P